DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before September 15, 2005.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW, Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-107811.

Applicant: John Fowler, Las Cruces, New Mexico

Applicant requests a new permit for research and recovery purposes to allow survey and collection for Sacramento prickly poppy (Argemone pleiacantha ssp. pinnatisecta) within New Mexico.

Permit no. TE-836329

Applicant: Blanton & Associates, Austin, Texas.

Applicant requests an amendment to an existing permit to conduct presence/absence surveys for interior least tern (Sterna antillarum), Mexican spotted owl (Strix occidnetalis lucida), southwestern willow flycatcher (Empidonax traillii extimus), and Concho water snake (Nerodia paucimaculata (=harteri p.)) within Arizona, New Mexico, and Texas.

Permit No. TE-108409

Applicant: Tiffany Bone, Urbana, Illinois.

Applicant requests a new permit for research and recovery purposes to allow survey and collection for Huachuca water-umbel (Lilaeopsis schaffnerinan var. recurva) within Arizona.

Authority: 16 U.S.C. 1531, et seq.

Dated: July 28, 2005.
Joy E. Nicholopoulos,
Acting Assistant Regional Director, Ecological Services, Region 2, Albuquerque, New Mexico.

[FR Doc. 05-16176 Filed 8-15-05; 8:45 am]

BILLING CODE 4310-55-M